DEPARTMENT OF THE INTERIOR

Office of the Secretary

Establishment of Wind Turbine Guidelines Advisory Committee

AGENCY: Office of the Secretary, Interior.

ACTION: Notice of Establishment and Call for Nominations.

SUMMARY: The Secretary of the Interior, after consultation with the General Services Administration, has established the Wind Turbine Guidelines Advisory Committee. The Committee will provide advice and recommendations to the Secretary of the Interior (Secretary) on developing effective measures to avoid or minimize impacts to wildlife and their habitats related to land-based wind energy facilities.

DATES: Requests to participate on this Committee must be postmarked by April 12, 2007.

ADDRESSES: Send resumes and explanations of interest to Susan L. Goodwin, Office of Collaborative Action and Dispute Resolution, U.S. Department of the Interior, 1801 Pennsylvania Avenue, Suite 500, Washington DC 20006, e-mail address susan_goodwin@ios.doi.gov, fax number 202/327-5390.

FOR FURTHER INFORMATION CONTACT: Susan L. Goodwin, 202/327-5346.

SUPPLEMENTARY INFORMATION: We are publishing this notice in accordance with the requirements of the Federal Advisory Committee Act (5 U.S.C. App.) (FACA). The Secretary of the Interior certifies that he has determined that the formation of the Committee is necessary and is in the public interest.

The Committee will conduct its operations in accordance with the provisions of the FACA. It will report to the Secretary of the Interior through the Director, U.S. Fish and Wildlife Service and will function solely as an advisory body. The Committee will provide recommendations and advice to the Department and the Service on developing effective measures to protect wildlife resources and enhance potential benefits to wildlife that may be identified.

The Secretary will appoint members who can effectively represent the varied interests associated with wind energy development and its potential impacts to wildlife species and their habitats. Members will represent stakeholders, Federal and State agencies, and tribes. Members will be senior representatives of their respective constituent groups with knowledge of: wind energy facility location, design, operation, and transmission requirements; wildlife species potentially affected and potential positive and negative impacts; wildlife survey techniques; applicable laws and regulations; and current research on wind/wildlife interactions. The Secretary may appoint Committee members based on nominations submitted by interested parties, including but not limited to the U.S. Fish and Wildlife Service and other Federal agencies, States, tribes, wind energy development organizations, nongovernmental conservation organizations, and local regulatory/licensing commissions. The Committee will also include independent experts in wind energy/wildlife interactions, appointed as special Government employees, to provide technical advice. The Secretary may also appoint alternate members to serve in the event that a member cannot attend a meeting. Parties interested in participating on this Committee should send their resumes and explanations of interest to Susan L. Goodwin, Office of Collaborative Action and Dispute Resolution, at the contact address listed in ADDRESSES, by the date specified in DATES.

The Committee is expected to meet approximately four times per year. All Committee members serve without compensation. Travel costs will be provided for Committee members who are special Government employees. The Service will provide necessary support services to the Committee. Committee meetings will be open to the public. Notice of committee meetings will be published in the Federal Register at least 15 days before the date of the meeting. The public will have an opportunity to provide input at these meetings.

The Committee is expected to exist for 2 years. Its continuation is subject to biennial renewal.

In accordance with FACA, we will file a copy of the Committee's charter with the Committee Management Secretariat, General Services Administration; Committee on Environment and Public Works, United States Senate; Committee on Resources, United States House of Representatives; and the Library of Congress.

The Certification for establishment is published below.

Certification

I hereby certify that the Wind Turbine Guidelines Advisory Committee is necessary and is in the public interest in connection with the performance of duties imposed on the Department of the Interior by Public Laws 16 U.S.C. 703-712, Migratory Bird Treaty Act; 16 U.S.C. 668-668d, Bald and Golden Eagle Protection Act; 16 U.S.C. 1531-1544, Endangered Species Act; and 42 U.S.C. 4371 et seq., National Environmental Policy Act. The Committee will assist the Department of the Interior by providing advice and recommendations on developing effective measures to avoid or minimize impacts to wildlife and their habitats.

Dated: February 28, 2007.
Dirk Kempthorne,
Secretary of the Interior.

[FR Doc. E7-4545 Filed 3-12-07; 8:45 am]

BILLING CODE 4310-55-P